MERIT SYSTEMS PROTECTION BOARD

Sunshine Act Notice

TIME AND DATE: 11 a.m., Thursday, May 31, 2001.

PLACE: Board Conference Room, Sixth Floor, 1615 M Street, NW., Washington, DC 20419.

STATUS: The meeting will be closed to the public.

MATTERS TO BE CONSIDERED: Board adjudication of the Office of Personnel Management's Request for Reconsideration in Azdell and Fishman v. Office of Personnel Management, DC-300A-97-0368-R-1 and DC-300A-97-0369-R-1.

CONTACT PERSON FOR ADDITIONAL INFORMATION: Matthew Shannon, Counsel to the Clerk of the Board, (202) 653-7200.

Dated: May 15, 2001.
Robert E. Taylor,
Clerk of the Board.

[FR Doc. 01-12614 Filed 5-15-01; 3:18 pm]

BILLING CODE 7400-01-M